DEPARTMENT OF THE INTERIOR

Fish and Wildlife Service

Hanford Reach National Monument Federal Advisory Committee; Meeting Notice

AGENCY: Fish and Wildlife Service, Interior.

ACTION: Notice; FACA meeting.

SUMMARY: The Hanford Reach National Monument Federal Advisory Committee is announcing two meetings in May. The first meeting will take place Thursday, May 2, 2002, at the Consolidated Information Center, Washington State University Tri-Cities Campus in Richland, WA, from 9 a.m. to 4 p.m. The second meeting will take place Wednesday, May 29, 2002 at the City of West Richland Council Chambers, from 12 p.m. to 4 p.m.

DATES: For each meeting, verbal comments will be considered during the course of the meeting and written comments will be accepted that are submitted by the close of the meeting. All comments delivered to the below address must be received by May 29, 2002.

ADDRESSES: Any member of the public wishing to submit written comments should send those to Mr. Greg Hughes, Designated Federal Official for the Hanford Reach National Monument (HRNM) Federal Advisory Committee, Hanford Reach National Monument/Saddle Mountain National Wildlife Refuge, 3250 Port of Benton Blvd., Richland, WA 99352; fax (509) 375-0196. Copies of the draft meeting agenda can be obtained from the Designated Federal Official.

FOR FURTHER INFORMATION CONTACT: Any member of the public wishing further information concerning the meeting should contact Mr. Greg Hughes, Designated Federal Official for the Hanford Reach National Monument (HRNM) FAC; phone (509) 371-1801, fax (509) 375-0196.

SUPPLEMENTARY INFORMATION: During the next two meetings, the Hanford Reach National Monument Federal Advisory Committee will preview subcommittee reports, and consider recommendations to the U.S. Fish and Wildlife Service on the public scoping process.

Dated: March 12, 2002.
Greg Hughes,
Project Leader, Hanford Reach National Monument.

[FR Doc. 02-10622 Filed 4-26-02; 8:45 am]

BILLING CODE 4310-55-P